INTER-AMERICAN FOUNDATION

Sunshine Act Meetings

TIME AND DATE: March 31, 2014, 9:00 a.m.-1:30 p.m.

PLACE: 1331 Pennsylvania Ave NW., 12th Floor North, Suite 1200, Washington, DC 20004.

STATUS: Open session.

MATTERS TO BE CONSIDERED:

Approval of the Minutes of the December 9, 2013, Meeting of the Board of Directors

Management Report

IAF Fellows Mid-Year Conference

IAF Goodwill Ambassador

Executive Session

PORTIONS TO BE OPEN TO THE PUBLIC:

Approval of the Minutes of the December 9, 2013, Meeting of the Board of Directors

Management Report

IAF Fellows Mid-Year Conference

IAF Goodwill Ambassador

CONTACT PERSON FOR MORE INFORMATION: Paul Zimmerman, General Counsel, (202) 683-7118.

Paul Zimmerman,
General Counsel.

[FR Doc. 2014-06348 Filed 3-19-14; 4:15 pm]

BILLING CODE 7025-01-P